FEDERAL FINANCIAL INSTITUTIONS EXAMINATION COUNCIL

12 CFR Part 1102

[Docket No. AS10-2]

Appraisal Subcommittee; Appraiser Regulation; Privacy Act Implementation

AGENCY: Appraisal Subcommittee of the Federal Financial Institutions Examination Council (Subcommittee).

ACTION: Final rule amendments.

SUMMARY: The Subcommittee is adopting nonsubstantive amendments to its regulations relating to the Privacy Act of 1974. The amendments correct the street address and zip code for the Subcomittee's office, which was moved in October 2008, from 2000 K Street, NW., Suite 310, Washington, DC 20006, to 1401 H Street, NW., Suite 760,Washington, DC 20005.

DATES: Effective Date: June 25, 2010.

FOR FURTHER INFORMATION CONTACT: Alice M. Ritter, General Counsel, at (202) 595-7577 or alice@asc.gov; Appraisal Subcommittee; 1401 H Street, NW., Suite 760, Washington, DC 20005.

SUPPLEMENTARY INFORMATION:

I. Authority and Section-by-Section Analysis

The Privacy Act of 1974 is based, in part, on the finding by Congress that “in order to protect the privacy of individuals identified in information systems maintained by Federal agencies, it is necessary and proper for the Congress to regulate the collection, maintenance, use, and dissemination of information by such agencies.” To achieve this objective, the Act generally provides that Federal agencies must advise an individual upon request whether records maintained by the agency in a system of records pertain to the individual and must grant the individual access to such records. The Act further provides that individuals may request amendments to records pertaining to them that are maintained by the agency, and that the agency shall either grant the requested amendments or set forth fully its reasons for refusing to do so.

In 1992, the Subcommittee, pursuant to subsection (f) of the Privacy Act, adopted 12 CFR subpart C containing rules and procedures to implement the Privacy Act. In October 2008, the Subcommittee moved its offices from 2000 K Street, NW., to its current location at 1401 H Street, NW. Subpart C, as adopted, contains numerous references to the Subcommittee's K Street address. The Subcommittee is amending subpart C by removing all references to the former K Street location and replacing them with the Subcommittee's current H Street address.

II. Administrative Requirements

A. Notice and Comment Requirements Under 5 U.S.C. 553

The Subcommittee, under 12 U.S.C. 553, is required, among other things, to publish in the Federal Register for public notice and comment a general notice of proposed rule making, unless, in accordance with paragraph (b)(3)(B), the agency finds “for good cause * * * that notice and public procedure thereon are impracticable, unnecessary, or contrary to the public interest.” The Subcommittee finds that notice and procedure are unnecessary in connection with these rule amendments because they are nonsubstantive and essentially are nomenclature changes, as that term is defined in the Federal Register Document Drafting Handbook, page 2-31 (October 1998).

List of Subjects in 12 CFR Part 1102

Administrative practice and procedure, Banks, banking, Freedom of information, Mortgages, Organization and functions (Government agencies), Reporting and recordkeeping requirements.

Text of the Rule

For the reasons set forth in the preamble, title 12, chapter XI of the Code of Federal Regulations is amended as follows:

PART 1102—APPRAISER REGULATION

Subpart C—Rules Pertaining to the Privacy of Individuals and Systems of Records Maintained by the Appraisal Subcommittee

1. The authority citation for part 1102, subpart C is revised to read as follows:

Authority: Privacy Act of 1974, Pub. L. 93-579, 88 Stat. 1896; 12 U.S.C. 552a, as amended.

§§ 1102.102, 1102.105, and 1102.107 [Amended]

2. In 12 CFR part 1102, remove the words “2000 K Street, NW., Suite 310, Washington, DC 20006” and add, in their place, the words, “1401 H Street, NW., Suite 760,Washington, DC 20005” in the following places:

a. Section 1102.102(a) introductory text, and (a)(2);

b. Section 1102.105(a); and

c. Section 1102.107(a)(2), and (b)(1).

By the Appraisal Subcommittee.
Dated: June 16, 2010.
Deborah S. Merkle,
Chairman.

[FR Doc. 2010-15317 Filed 6-24-10; 8:45 am]

BILLING CODE P